DEPARTMENT OF AGRICULTURE

Forest Service

Ketchikan Resource Advisory Committee

AGENCY: Forest Service, USDA.

ACTION: Notice of meeting.

SUMMARY: The Ketchikan Resource Advisory Committee will meet in Ketchikan, Alaska, September 11, 2012. The purpose of this meeting is monitoring of projects being implemented under Public Law 110-343 and if authorized by the Secretary of Agriculture by the meeting date, to review and recommend projects to be funded under Public Law 112-141.

DATES: The meeting will be held September 11, 2012 at 5 p.m.

ADDRESSES: The meeting will be held at the Ketchikan-Misty Fiords Ranger District, 3031 Tongass Avenue, Ketchikan, Alaska. Send written comments to Ketchikan Resource Advisory Committee, c/o District Ranger, USDA Forest Service, 3031 Tongass Ave., Ketchikan, AK 99901, or electronically to Diane Daniels, RAC Coordinator at ddaniels@fs.fed.us.

FOR FURTHER INFORMATION CONTACT: Diane Daniels, RAC Coordinator Ketchikan-Misty Fiords Ranger District, Tongass National Forest, (907) 228-4105.

SUPPLEMENTARY INFORMATION: The meeting is open to the public. Committee discussion is limited to Forest Service staff and Committee members. However, public input opportunity will be provided and individuals will have the opportunity to address the Committee at that time.

Dated: July 30, 2012.
Jeff DeFreest,
District Ranger.

[FR Doc. 2012-19203 Filed 8-8-12; 8:45 am]

BILLING CODE 3410-11-M